DEPARTMENT OF ENERGY

Federal Energy Regulatory Commission

Combined Notice of Filings #1

Take notice that the Commission received the following electric rate filings:

Docket Numbers: ER19-878-002.

Applicants: Enel Green Power Hilltopper Wind, LLC.

Description: Compliance filing: Compliance Filing for ER19-878 to submit updated tariff records to be effective 3/30/2019.

Filed Date: 11/26/19.

Accession Number: 20191126-5088.

Comments Due: 5 p.m. ET 12/17/19.

Docket Numbers: ER20-280-001.

Applicants: Skookumchuck Wind Energy Project, LLC.

Description: Supplement to November 1, 2019 Skookumchuck Wind Energy Project, LLC tariff filing.

Filed Date: 11/22/19.

Accession Number: 20191122-5145.

Comments Due: 5 p.m. ET 12/2/19.

Docket Numbers: ER20-459-000.

Applicants: WSPP Inc.

Description: § 205(d) Rate Filing: List of Members sections 4 and 6 2020 to be effective 1/25/2020.

Filed Date: 11/26/19.

Accession Number: 20191126-5006.

Comments Due: 5 p.m. ET 12/17/19.

Docket Numbers: ER20-460-000.

Applicants: ITC Midwest LLC.

Description: § 205(d) Rate Filing: Filing of 4th Amended and Restated Corn Belt-IPL IA to be effective 1/26/2020.

Filed Date: 11/26/19.

Accession Number: 20191126-5064.

Comments Due: 5 p.m. ET 12/17/19.

Docket Numbers: ER20-461-000.

Applicants: PJM Interconnection, L.L.C.

Description: § 205(d) Rate Filing: Original WMPA SA No. 5523; Queue No. AE1-162 to be effective 10/29/2019.

Filed Date: 11/26/19.

Accession Number: 20191126-5077.

Comments Due: 5 p.m. ET 12/17/19.

Docket Numbers: ER20-462-000.

Applicants: Indiana Michigan Power Company, PJM Interconnection, L.L.C.

Description: § 205(d) Rate Filing: AEPSC submits Interconnection Agreement, SA No. 1263 to be effective 10/17/2019.

Filed Date: 11/26/19.

Accession Number: 20191126-5086.

Comments Due: 5 p.m. ET 12/17/19.

Docket Numbers: ER20-463-000.

Applicants: Duke Energy Florida, LLC.

Description: § 205(d) Rate Filing: DEF-FMPA-Winter Park-FMPA Reimbursement Agreement (Rate Schedule No. 257) to be effective 1/1/2020.

Filed Date: 11/25/19.

Accession Number: 20191125-5260.

Comments Due: 5 p.m. ET 12/16/19.

Docket Numbers: ER20-464-000.

Applicants: Greenleaf Energy Unit 2 LLC.

Description: Baseline eTariff Filing: Market-Based Rate Application to be effective 12/9/2019.

Filed Date: 11/25/19.

Accession Number: 20191125-5262.

Comments Due: 5 p.m. ET 12/16/19.

Docket Numbers: ER20-465-000.

Applicants: Pacific Gas and Electric Company.

Description: § 205(d) Rate Filing: Revision to Lathrop Irrigation District Replacement IA and TFA (SA 366) to be effective 1/25/2020.

Filed Date: 11/26/19.

Accession Number: 20191126-5093.

Comments Due: 5 p.m. ET 12/17/19.

Docket Numbers: ER20-466-000.

Applicants: Midcontinent Independent System Operator, Inc.

Description: § 205(d) Rate Filing: 2019-11-26_SA 3377 METC-Assembly Solar GIA (J796) to be effective 11/11/2019.

Filed Date: 11/26/19.

Accession Number: 20191126-5102.

Comments Due: 5 p.m. ET 12/17/19.

Docket Numbers: ER20-467-000.

Applicants: Ambit Northeast, LLC.

Description: § 205(d) Rate Filing: Normal 2019 to be effective 11/27/2019.

Filed Date: 11/26/19.

Accession Number: 20191126-5113.

Comments Due: 5 p.m. ET 12/17/19.

Docket Numbers: ER20-468-000.

Applicants: Duke Energy Ohio, Inc.

Description: Notice of Cancellation of Conforming Jurisdictional Agreements of Duke Energy Ohio, Inc.

Filed Date: 11/26/19.

Accession Number: 20191126-5122.

Comments Due: 5 p.m. ET 12/17/19.

Docket Numbers: ER20-469-000.

Applicants: PJM Interconnection, L.L.C.

Description: Tariff Cancellation: Notice of Cancellation of WMPA SA No. 4392; Queue No. AA1-093 to be effective 12/23/2019.

Filed Date: 11/26/19.

Accession Number: 20191126-5124.

Comments Due: 5 p.m. ET 12/17/19.

Docket Numbers: ER20-470-000.

Applicants: Skylar Power Marketing, LLC.

Description: Baseline eTariff Filing: Skylar Power Marketing, LLC—Application for Market-Based Rate Authorization to be effective 11/27/2019.

Filed Date: 11/26/19.

Accession Number: 20191126-5130.

Comments Due: 5 p.m. ET 12/17/19.

Docket Numbers: ER20-471-000.

Applicants: Nevada Power Company.

Description: § 205(d) Rate Filing: Rate Schedule 158 Amended DesertLink OM to be effective 11/27/2019.

Filed Date: 11/26/19.

Accession Number: 20191126-5145.

Comments Due: 5 p.m. ET 12/17/19.

Docket Numbers: ER20-472-000.

Applicants: Duke Energy Progress, LLC.

Description: § 205(d) Rate Filing: DEP-NCEMPA NITSA and MSA (SA Nos. 268 & 380) to be effective 1/1/2020.

Filed Date: 11/26/19.

Accession Number: 20191126-5147.

Comments Due: 5 p.m. ET 12/17/19.

Docket Numbers: ER20-473-000.

Applicants: Avista Corporation.

Description: § 205(d) Rate Filing: Avista Corp FERC Rate Schedule T1152-BPA EI Letter Agreement to be effective 11/27/2019.

Filed Date: 11/26/19.

Accession Number: 20191126-5191.

Comments Due: 5 p.m. ET 12/17/19.

Docket Numbers: ER20-474-000.

Applicants: Hatchet Ridge Wind, LLC.

Description: § 205(d) Rate Filing: Notice of Non-Material Change in Status to be effective 11/27/2019.

Filed Date: 11/26/19.

Accession Number: 20191126-5197.

Comments Due: 5 p.m. ET 12/17/19.

Docket Numbers: ER20-475-000.

Applicants: Ocotillo Express LLC.

Description: § 205(d) Rate Filing: Notice of Non-Material Change in Status to be effective 11/27/2019.

Filed Date: 11/26/19.

Accession Number: 20191126-5199.

Comments Due: 5 p.m. ET 12/17/19.

Docket Numbers: ER20-476-000.

Applicants: Georgia Power Company.

Description: § 205(d) Rate Filing: GPCo 2019 PBOP Filing to be effective 1/1/2019.

Filed Date: 11/26/19.

Accession Number: 20191126-5247.

Comments Due: 5 p.m. ET 12/17/19.

Docket Numbers: ER20-477-000.

Applicants: Mississippi Power Company.

Description: § 205(d) Rate Filing: PBOP 2019 Filing to be effective 1/1/2019.

Filed Date: 11/26/19.

Accession Number: 20191126-5248.

Comments Due: 5 p.m. ET 12/17/19.

Docket Numbers: ER20-478-000.

Applicants: Southern Electric Generating Company.

Description: § 205(d) Rate Filing: SEGCo 2019 PBOP Filing to be effective 1/1/2019.

Filed Date: 11/26/19.

Accession Number: 20191126-5251.

Comments Due: 5 p.m. ET 12/17/19.

Docket Numbers: ER20-479-000.

Applicants: Little Bear Solar 1, LLC.

Description: Baseline eTariff Filing: MBR Application and Request for Expedited Treatment to be effective 1/10/2020.

Filed Date: 11/26/19.

Accession Number: 20191126-5262.

Comments Due: 5 p.m. ET 12/17/19.

Docket Numbers: ER20-480-000.

Applicants: AEP Indiana Michigan Transmission Company, PJM Interconnection, L.L.C.

Description: § 205(d) Rate Filing: AEPSC submits IMTCo and NIPSCO Interconnection Agreement SA No. 4247 to be effective 10/26/2019.

Filed Date: 11/26/19.

Accession Number: 20191126-5266.

Comments Due: 5 p.m. ET 12/17/19.

Docket Numbers: ER20-481-000.

Applicants: Little Bear Solar 3, LLC.

Description: Baseline eTariff Filing: MBR Application and Request for Expedited Treatment to be effective 1/10/2020.

Filed Date: 11/26/19.

Accession Number: 20191126-5267.

Comments Due: 5 p.m. ET 12/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2019.
Kimberly D. Bose,
Secretary.

[FR Doc. 2019-26175 Filed 12-3-19; 8:45 am]

BILLING CODE 6717-01-P